DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Assessment and Evaluation of the Public Health Training Center Program.

OMB No:. 0915-xxxx-NEW.

Abstract: The Public Health Training Center (PHTC) Program provides support to help improve the public health workforce by strengthening the competence of the existing and future public health workforce and addressing public health workforce shortages. Grantees of the PHTC Program include accredited schools and programs of public health and other private and non-profit entities that are required to provide competency-based training and educational programs—based on the Core Competencies for Public Health Professionals outlined by the Council on Linkages between Academia and Public Health—that support core public health functions and the Ten Essential Public Health Services.

Need and Proposed Use of the Information: The Bureau of Health Professions (BHPr) is currently evaluating the PHTC Program to assess how grantees are meeting the needs of the public health workforce, improving the public health workforce by strengthening the competence of the existing and future public health workforce, and addressing shortages of the public health workforce. The specific purpose of this data collection activity is to obtain information from individuals who participate in continuing education courses offered by PHTC grantees in order to gauge and monitor changes in participants' knowledge about public health-related issues.

Likely Respondents: Participants of continuing education courses offered by PHTC grantees.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Form name | Number of respondents | Number of responses per respondent | Total responses | Average burden per response (in hours) | Total burden hours
CE Survey Form | 3,000 | 1 | 3,000 | .16 | 480
Total | 3,000 | 1 | 3,000 | .16 | 480

Total Estimated Annualized burden hours:

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: December 30, 2013.
Bahar Niakan,
Director, Division of Policy and Information Coordination.

[FR Doc. 2013-31589 Filed 1-6-14; 8:45 am]

BILLING CODE 4165-15-P